DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 5, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Randolph County, Illinois and Incorporated Areas
Docket No.: FEMA-B-1908
Unincorporated Areas of Randolph County | Randolph County Courthouse, 1 Taylor Street, Chester, IL 62233.
Village of Ellis Grove | City Hall, 101 Main Street, Ellis Grove, IL 62241.
Village of Evansville | Evansville Village Hall, 403 Spring Street, Evansville, IL 62242.
Village of Prairie du Rocher | Prairie du Rocher Village Hall, 209 Henry Street, Prairie du Rocher, IL 62277.
Lackawanna County, Pennsylvania (All Jurisdictions)
Docket No.: FEMA-B-1250 and FEMA-B-1802
Borough of Archbald | Municipal Building, 400 Church Street, Archbald, PA 18403.
Borough of Blakely | Blakely Borough Building, 1439 Main Street, Peckville, PA 18452.
Borough of Clarks Green | Borough Building, 104 North Abington Road, Clarks Green, PA 18411.
Borough of Clarks Summit | Municipal Building, 304 South State Street, Clarks Summit, PA 18411.
Borough of Dalton | Municipal Building, 105 West Main Street, Dalton, PA 18414.
Borough of Dickson City | Borough Building, 901 Enterprise Street, Dickson City, PA 18519.
Borough of Dunmore | Municipal Building, 400 South Blakely Street, Dunmore, PA 18512.
Borough of Jermyn | Municipal Building, 440 Jefferson Avenue, Jermyn, PA 18433.
Borough of Jessup | Municipal Building, 395 Lane Street, Jessup, PA 18434.
Borough of Mayfield | Municipal Building, 739 Penn Avenue, Mayfield, PA 18433.
Borough of Moosic | Municipal Building, 715 Main Street, Moosic, PA 18507.
Borough of Moscow | Municipal Building, 123 Van Brunt Street, Moscow, PA 18444.
Borough of Old Forge | Municipal Building, 310 South Main Street, Old Forge, PA 18518.
Borough of Olyphant | Municipal Building, 113 Willow Avenue, Olyphant, PA 18447.
Borough of Taylor | Municipal Building, 122 Union Street, Taylor, PA 18517.
Borough of Throop | Municipal Building, 436 Sanderson Street, Throop, PA 18512.
Borough of Vandling | Borough Building, 449 Hillside Street, Vandling, PA 18421.
City of Carbondale | City Hall, 1 North Main Street, Carbondale, PA 18407.
City of Scranton | Municipal Building, 340 North Washington Avenue, Scranton, PA 18503.
Township of Benton | Benton Township Maintenance Building, 2019 State Route 107, Fleetville, PA 18420.
Township of Carbondale | Carbondale Township Municipal Building, 103 School Street, Childs, PA 18407.
Township of Clifton | Municipal Building, 361 State Route 435, Clifton Township, PA 18424.
Township of Covington | Township Municipal Office, 20 Moffat Drive, Covington Township, PA 18444.
Township of Elmhurst | Municipal Building, 112 Municipal Lane, Elmhurst Township, PA 18444.
Township of Fell | Fell Township Building, 1 Veterans Drive, Simpson, PA 18407.
Township of Glenburn | Glenburn Township Municipal Building, 54 Waterford Road, Dalton, PA 18414.
Township of Greenfield | Township Municipal Building, 424 State Route 106, Greenfield Township, PA 18407.
Township of Jefferson | Township Municipal Building, 487 Cortez Road, Jefferson Township, PA 18436.
Township of La Plume | La Plume Township Municipal Building, 2109 U.S. Route 6 and 11, Factoryville, PA 18419.
Township of Madison | Municipal Building, 3200 Madisonville Road, Madison Township, PA 18444.
Township of Newton | Newton Township Hall, 1528 Newton-Ransom Boulevard, Clarks Summit, PA 18411.
Township of North Abington | Township Hall, 138 Sullivan Road, North Abington Township, PA 18414.
Township of Ransom | Ransom Township Municipal Building, 2435 Hickory Lane, Clarks Summit, PA 18411.
Township of Roaring Brook | Municipal Building, 430 Blue Shutters Road, Roaring Brook Township, PA 18444.
Township of Scott | Joey Terry Civic Center, 1038 Montdale Road, Scott Township, PA 18447.
Township of South Abington | Municipal Building, 104 Shady Lane Road, South Abington Township, PA 18411.
Township of Spring Brook | Municipal Building, 966 State Route 307, Spring Brook Township, PA 18444.
Township of Thornhurst | Township Building, 356 Old River Road, Thornhurst, PA 18424.
Township of Waverly | Municipal Building, 1 Lake Henry Drive, Waverly, PA 18471.
Township of West Abington | West Abington Township Building, 2545 Bald Mountain Road, Clarks Summit, PA 18411.

[FR Doc. 2020-07054 Filed 4-2-20; 8:45 am]

BILLING CODE 9110-12-P